DEPARTMENT OF COMMERCE

National Oceanic and Atmospheric Administration

[RTID 0648-XC149]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a meeting of its Outreach and Education Technical Committee (Committee).

DATES: The meeting will convene on Monday, August 1, 2022, from 12 p.m. to 4 p.m., EDT.

ADDRESSES: The meeting will be held virtually. Please visit the Gulf Council website at www.gulfcouncil.org for meeting materials and webinar registration information.

Council address: Gulf of Mexico Fishery Management Council, 4107 W. Spruce Street, Suite 200, Tampa, FL 33607; telephone: (813) 348-1630.

FOR FURTHER INFORMATION CONTACT: Emily Muehlstein, Public Information Officer, Gulf of Mexico Fishery Management Council; emily.muehlstein@gulfcouncil.org, telephone: (813) 348-1630.

SUPPLEMENTARY INFORMATION:

Monday, August 1, 2022; 12 p.m. until 4 p.m., EDT.

The meeting will begin with member and staff introductions, adoption of agenda, approval of November 15, 2021 meeting summary, and scope of work.

The Committee will hear a presentation on changes to shrimp effort data collection and provide recommendations on how to promote return of shrimp fleet effort data.

The Committee will receive an update on Return `Em Right, discuss any other business items and take Public Comment before the meeting adjourns.

—Meeting Adjourns

The meeting will be broadcast via webinar only. You may register for the webinar by visiting www.gulfcouncil.org and clicking on the Council meeting on the calendar.

The Agenda is subject to change, and the latest version along with other meeting materials will be posted on www.gulfcouncil.org as they become available.

Although other non-emergency issues not on the agenda may come before this group for discussion, in accordance with the Magnuson-Stevens Fishery Conservation and Management Act, those issues may not be the subject of formal action during this meeting. Actions will be restricted to those issues specifically identified in the agenda and any issues arising after publication of this notice that require emergency action under Section 305(c) of the Magnuson-Stevens Fishery Conservation and Management Act, provided the public has been notified of the Council's intent to take-action to address the emergency.

Authority: 16 U.S.C. 1801 et seq.

Dated: July 1, 2022.
Tracey L. Thompson,
Acting Deputy Director, Office of Sustainable Fisheries, National Marine Fisheries Service.

[FR Doc. 2022-14505 Filed 7-6-22; 8:45 am]

BILLING CODE 3510-22-P